DEPARTMENT OF COMMERCE

Economic Development Administration

Agency Information Collection Activities; Submission to the Office of Management and Budget (OMB) for Review and Approval; Comment Request; Petition by a Firm for Certification of Eligibility To Apply for Trade Adjustment Assistance, and Adjustment Proposals

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 24, 2022, during a 60-day comment period. This notice allows for an additional 30 days for public comments.

Agency: Economic Development Administration (EDA), U.S. Department of Commerce.

Title: Petition by a Firm for Certification of Eligibility to Apply for Trade Adjustment Assistance, and Adjustment Proposals.

OMB Control Number: 0610-0091.

Form Number(s): ED-840P.

Type of Request: Extension without change of a currently approved information collection.

Number of Respondents: 300 (150 petitions for certification and 150 adjustment proposals).

Average Hours per Response: 53 hours for petitions for certification and 120 hours for adjustment proposals.

Burden Hours: 25,950 (7,950 hours for petitions for certification and 18,000 for adjustment proposals).

Needs and Uses: The information collected on Form ED-840P, Petition by a Firm for Certification of Eligibility to Apply for Trade Adjustment Assistance, and relevant supporting documentation is used to determine whether a firm satisfies the eligibility and programmatic requirements contained in chapters 3 and 5 of title II of the Trade Act of 1974, as amended (19 U.S.C. 2341). If certified as eligible for Trade Adjustment Assistance following submission of Form ED-840P, firms must create an EDA-approved Adjustment Proposal in order to receive Trade Adjustment Assistance.

The statutory authorization for the TAAF program sunset in two stages. First, on July 1, 2021, the TAAF program reverted to more limited eligibility criteria. Second, as of June 30, 2022, assistance could not be provided to new firms. After that date, assistance could only be provided to firms that had previously submitted a petition under the TAAF program. EDA wishes to extend the current information collection for the TAAF program so that EDA may continue to review and approve adjustment proposals from certified firms, and in case the TAAF program is re-authorized by Congress.

Affected Public: Businesses or other for-profit organizations.

Frequency: During application for Trade Adjustment Assistance.

Respondent's Obligation: Mandatory.

Legal Authority: Chapters 3 and 5 of title II of the Trade Act of 1974, as amended (19 U.S.C. 2341).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0610-0091.

Sheleen Dumas,
Department PRA Clearance Officer, Office of the Chief Information Officer, Commerce Department.

[FR Doc. 2022-18468 Filed 8-25-22; 8:45 am]

BILLING CODE 3510-34-P